DEPARTMENT OF HEALTH AND HUMAN SERVICES

Administration For Children And Families

[CFDA Number 93.576]

Announcement of the Award of an Emergency Single-Source Grant to the U.S. Committee for Refugees and Immigrants in Arlington, VA

AGENCY: Office of Refugee Resettlement, ACF, HHS.

ACTION: Announcement of the award of an emergency single-source grant to the U.S. Committee for Refugees and Immigrants in Arlington, VA.

SUMMARY: The Administration for Children and Families (ACF), Office of Refugee Resettlement (ORR) announces the award of an emergency single-source grant in the amount of $804,075 to the U.S. Committee for Refugees and Immigrants (USCRI) in Arlington, VA, to support resettlement services to Iranian refugee parolees.

DATES: Funds will support activities from December 15, 2014 through December 14, 2015.

FOR FURTHER INFORMATION CONTACT: Kenneth Tota, Acting Director, Office of Refugee Resettlement, 901 D Street SW., Washington, DC 20047. Telephone: 202-401-4858. Email: kenneth.tota@acf.hhs.gov.

SUPPLEMENTARY INFORMATION: Award funds will provide resettlement services to approximately 100 Iranian individuals currently residing in a refugee camp in Iraq. USCRI will provide services to this refugee parolee population including, but not limited to: Initial reception, housing, employment, enhanced case management, staffing, interpreter services, and counseling. This emergency grant will support the provision of these much needed services to ensure these parolees are afforded a successful path to self-sufficiency.

Statutory Authority: Section 412(c)(1)(A) of the Immigration and Nationality Act, as amended (8 U.S.C. 1522(c)(1)(A)).

Christopher Beach,
Senior Grants Policy Specialist, Office of Administration.

[FR Doc. 2015-06311 Filed 3-18-15; 8:45 am]

BILLING CODE 4184-01-P